DEPARTMENT OF THE INTERIOR

Bureau of Land Management

[NV-050-02-5101-ER-F331; N-75493, N-75471, N-75472, N-75474, N-75475, N-75476, N-75477]

Environmental Statements; Notice of Intent: Ivanpah Energy Center, NV

AGENCY: Bureau of Land Management, Interior.

ACTION: Notice of Intent (NOI) to (1) announce a proposed Environmental Impact Statement (EIS) for the Ivanpah Energy Center Project; and (2) announce the locations, dates, and times of the scheduled public meetings for obtaining public comments.

SUMMARY: Pursuant to section 102(2)(C) of the National Environmental Policy Act (NEPA) of 1969, an EIS will be prepared by the Bureau of Land Management (BLM), Las Vegas Field Office for the Ivanpah Energy Center. The EIS will analyze the impacts of issuing rights-of-way for a gas-fired electric power plant and ancillary facilities (consisting of electric transmission lines, electric substations, a water pipeline, and an access road).

DATES: Three scheduled public meetings to be held at the following dates and locations:

• Tuesday, March 5, 2002 commencing at 7 p.m. and continuing until all those present have an opportunity to speak but closing no later than 9 p.m. Community Center, 375 West San Pedro Avenue, Goodsprings, Nevada.

• Wednesday, March 6, 2002 commencing at 7 p.m. and continuing until all those present have an opportunity to speak but closing no later than 9 p.m. Clark County Government Center, Room ODC #3, 500 Grand Central Parkway, Las Vegas, Nevada.

• Thursday, March 7, 2002 commencing at 7 p.m. and continuing until all those present have an opportunity to speak but closing no later than 9 p.m. Community Center, West Quartz Avenue, Sandy Valley, Nevada.

Individuals making written comments at the public meetings may request confidentiality. If you wish to withhold your name or street address from public review of disclosure under the Freedom of Information Act, you must state this definitively at the beginning of your written comments. Such requests will be honored to the extent allowed by law. All submissions from organizations and businesses, and for individuals identifying themselves as representatives or officials of organizations or businesses will be available for public inspection in their entirety.

FOR FURTHER INFORMATION CONTACT: Jerry Crockford, Project Manager, Bureau of Land Management, Las Vegas Field Office, 4701 N. Torrey Pines Drive, Las Vegas, NV 89130-2301 or Bureau of Land Management, Farmington Field Office, 1235 La Plata Highway, Suite A, Farmington, NM 87401; telephone (505) 599-6333, cellular telephone (505) 486-4255.

SUPPLEMENTARY INFORMATION: The EIS will address the proposed action and (at this time) one alternative.

The proposed action can be summarized as: Construction, operation and maintenance of a nominal 500 Megawatt (MW) gas-fired electrical power generating facility and ancillary facilities.

Except for a related electric transmission line, the proposed generating facility and most ancillary facilities are located on public land administered by the BLM, in the MDBM, T. 25 S., R. 58 E., sec. 1, and T. 25 S., R. 59 E., sec. 6 and in southern Clark County, Nevada. The proposed site is about 25 miles southwest of Las Vegas, and two and one-half miles southeast of the town of Goodsprings, Nevada. The plant consists of two gas turbine-generators. The turbine exhaust heat captured and used to create steam will drive a steam turbine-generator in a combined-cycle configuration. To minimize consumption of water, the plant will use refrigerated air-cooling technology.

The proposed action also includes the following ancillary facilities: A 12-inch diameter gas pipeline; a four-inch diameter water-supply pipeline; a 230 kilovolt (kV) substation; the following 230 kV transmission lines: (1) Two 230 kV lines from the proposed Ivanpah Substation to the existing Pahrump-Mead 230 kV line corridor; (2) a 230 kV line from the Ivanpah Substation to the existing Western Area Power Administration Mead Substation; and (3) two 230 kV lines from the Table Mountain Substation to the Ivanpah Substation; and the following fiber optic lines: (1) An optical-fiber ground wire (OPGW) shield wire as an integral part of the Ivanpah-Mead #2 transmission line; and (2) an OPGW as an integral part of the Table Mountain-Ivanpah #1 transmission line. Access to the generation facility site would be via an existing, unimproved road connected to State Highway 161.

The plant will require approximately 22 months for construction. The plant will be built to operate continuously, except for semi-annual maintenance shutdowns, with a projected 40-year life. Power will be sold into the commercial power markets of Nevada, California, and Arizona.

Under the No Action Alternative, BLM would not issue right-of-way grants for the Ivanpah Energy Center and ancillary facilities. The project including the power plant, transmission lines, water pipeline, gas pipeline, access road, and temporary use areas would not be constructed. The areas proposed for the Ivanpah Energy Center would remain undeveloped. An energy need would not be met by the proposed plant's generated power.

Public participation is encouraged throughout the processing of this project. Comments presented throughout the process will be considered.

Dated: January 23, 2002.
Angie C. Lara,
Acting Field Manager.

[FR Doc. 02-3794 Filed 2-14-02; 8:45 am]

BILLING CODE 4310-HC-M